CONSUMER PRODUCT SAFETY COMMISSION

[Docket No.CPSC-2010-0071]

Petition Requesting Revision of Bunk Bed Standard To Incorporate Requirements for Head and Neck Entrapment Testing in Spaces Created by Side Structures, Including Ladders

AGENCY: Consumer Product Safety Commission.

ACTION: Notice.

SUMMARY: The Consumer Product Safety Commission (“Commission,” “CPSC,” or “we”) received a petition requesting the Commission to initiate a rulemaking to revise the Commission's regulations regarding bunk beds, codified under both the Consumer Product Safety Act (“CPSA”) and the Federal Hazardous Substances Act (“FHSA”) at 16 CFR 1213, 1500, and 1513 (the “Bunk Bed Standard”), to incorporate requirements for head and neck entrapment testing in spaces created by side structures that are provided with a bunk bed, including ladders. The Commission invites written comments concerning this petition to initiate a rulemaking to revise the Bunk Bed Standard.

DATES: Comments on the petition must be received by September 10, 2010.

ADDRESSES: You may submit comments, identified by Docket No. CPSC-2010-0071, by any of the following methods:

Submit electronic comments in the following way:

Federal eRulemaking Portal: http://www.regulations.gov. Follow the instructions for submitting comments. To ensure timely processing of comments, the Commission is no longer accepting comments submitted by electronic mail (e-mail) except through http://www.regulations.gov.

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Rocky Hammond, Office of the Secretary, Consumer Product Safety Commission, 4330 East West Highway, Bethesda, Maryland, 20814; telephone (301) 504-6833, e-mail rhammond@cpsc.gov.

SUPPLEMENTARY INFORMATION:

The Commission received a petition from Carol Pollack-Nelson, PhD of Independent Safety Consulting (“Petitioner”) requesting that the Commission initiate a rulemaking to revise the regulations related to bunk beds, codified at 16 CFR parts 1213, 1500, and 1513 (“Bunk Bed Standard”), to incorporate requirements for head and neck entrapment testing in spaces created by side structures that are provided with a bunk bed, including ladders. The Commission regulates bunk beds under both the Federal Hazardous Substances Act (“FHSA”) (16 CFR 1500 and 1513), for bunk beds intended for use by children, and the Consumer Product Safety Act (“CPSA”) (16 CFR 1213), for bunk beds not specifically intended for children. The regulations under both statutes are virtually identical.

Petitioner acknowledges that the risk of injury caused by head and neck entrapment in the end structures of bunk beds is quite low in compliant products because of the Bunk Bed Standard, but argues that same risk of injury continues to exist with regard to the space between a ladder and the side of the bed, which the standard does not address. The petition identifies 3 fatalities, and 4 other incidents of children whose head and/or neck were entrapped between the side of the bed and a bunk bed ladder. The hazard purportedly arises from the potential that a child's neck may become entrapped if the “child's head is able to pass (partially) through the space created by a horizontal ladder rung and the top of the mattress, [and] the neck * * * drop[s] into the gap between the vertical ladder post and the side of the mattress * * *. Further contributing to the hazard pattern is the fact that the child's chin hooks over the vertical post of the ladder and is pinned at the back of the head by the mattress. The weight of the body outside the bed pulls the head and neck against the vertical ladder post. All of these factors together contribute to the neck entrapment and resulting strangulation.” Petitioner states that assessing the entrapment hazard requires use of a neck probe that simulates the dimensions of the smallest user's neck. Using anthropometry data collected on children in the United States, the Petitioner argues that any space greater than 1.9 in (4.8 cm) can pose a risk of neck entrapment in bunk bed side structures.

Petitioner concludes that, while the hazard of head and neck entrapment on bunk beds and the methods of testing for a potential hazard are known to the industry, and data on injuries involving side structures have been on record with the CPSC for decades, the hazard of side structure entrapments on bunk beds has not been addressed in the Bunk Bed Standard. Petitioner argues that deaths have occurred and will continue to occur unless the Bunk Bed Standard is revised to include testing for head and neck entrapment in spaces created by side structures.

Interested parties may obtain a copy of the petition by writing or calling the Office of the Secretary, Consumer Product Safety Commission, 4330 East West Highway, Bethesda, MD 20814; telephone (301) 504-6833. The petition is also available on the CPSC Web site at http://www.cpsc.gov.

Dated: July 6, 2010.
Todd A. Stevenson,
Secretary, Consumer Product Safety Commission.

[FR Doc. 2010-16918 Filed 7-9-10; 8:45 am]

BILLING CODE 6355-01-P